DEPARTMENT OF AGRICULTURE

Forest Service

Black-Tailed Prairie Dog Conservation and Management on the Nebraska National Forest and Associated Units

AGENCY: USDA Forest Service.

ACTION: Notice of intent to prepare Environmental Impact Statement.

SUMMARY: The USDA Forest Service will prepare an Environmental Impact Statement (EIS) for black-tailed prairie dog (Cynomys ludovicianus) conservation and management on the Nebraska National Forest and associated units (NNF). The proposed action will tier to the Final EIS for the 2002 Revised Nebraska National Forest Land and Resource Management Plan (LRMP). The proposed action will utilize and adaptive management strategy to guide implementation of current LRMP direction for black-tailed prairie dogs (hereafter referred to as prairie dog) and additional new direction for reducing unwanted prairie dog colonization on agricultural lands adjoining National Forest System (NFS) lands. The proposed action is consistent with the commitment to be a good neighbor while continuing to conserve prairie dog and associated wildlife as prescribed in the LRMP. This action may require an amendment to the LRMP. The NNF includes the Buffalo Gap and Fort Pierre National Grasslands in South Dakota and the Oglala National Grassland, Nebraska National Forest and Samuel R. McKelvie National Forest in Nebraska.

DATES: Written comments must be received within 30 days after publication in the Federal Register. The Draft Environmental Impact Statement (DEIS) is expected January, 2005 and the Final Environmental Impact Statement (FEIS) is expected June, 2005.

ADDRESSES: Written comments on the proposed action must be sent to Donald J. Bright, Forest Supervisor, USDA Forest Service, 125 North Main, Chadron, Nebraska 69337.

FOR FURTHER INFORMATION CONTACT: William M. Perry, Team Leader, USDA Forest Service, at POB 425, Wall, South Dakota, or call (605) 279-2125.

SUPPLEMENTARY INFORMATION:

Purpose and Need for Action

The LRMP provides general guidance and direction for conserving and managing black-tailed prairie dogs on NFS lands. This guidance and direction addresses use of rodenticides, landownership adjustment, vegetation management, livestock grazing, prairie dog shooting/hunting, and other management options to either expand or limit growth of prairie dog populations and colonies on NFS lands. A guideline under animal damage management in the LRMP (p. 1-21) directs the Forest Service to consult statewide prairie dog management plans for additional guidance on the appropriate response to complaints of unwanted prairie dog colonization on adjacent agricultural lands. The Record of Decision (ROD) for the LRMP stated that the Forest Service intended to implement state-wide prairie dog management plans to the extent allowable by law and policy in providing direction for the control of unwanted prairie dog colonization on adjacent lands through a LRMP amendment, if necessary.

Since the July, 2002 ROD, several events have occurred that influence the management of prairie dogs and make this proposal timely:

1. In the August 12, 2004, Federal Register, the U.S. Fish and Wildlife Service (FWS) evaluated the black-tailed prairie dog for protection under the Endangered Species Act (ESA). FWS found that a proposed rule to list the black-tailed prairie dog is not warranted, and the black-tailed prairie dog is no longer considered a candidate species for listing.

2. The South Dakota prairie dog management plan is in the final stages of completion and awaiting approval. It is unlikely that the State of Nebraska will issue a statewide prairie dog management plan, at least in the foreseeable future.

3. Extended drought conditions have increased prairie dog colony expansion, prairie dog movement, and unwanted colonization of adjacent lands.

4. In response to lethal prairie dog control conducted by USDA Animal and Plant Health Inspection Service (APHIS) in the fall of 2004, several conservation organizations expressed concern over the effects of lethal prairie dog control on the Conata Basin black-footed ferret population and other associated wildlife.

Proposed Action

The Forest Service is proposing an adaptive management approach to guide implementation of current LRMP direction for prairie dogs and additional new direction for reducing unwanted prairie dog colonization on adjacent agricultural lands. This proposed action will apply to all NFS lands administered by NNF. This proposed action may require an amendment to the LRMP. This proposed action may adjust direction regarding the use of lethal and non-lethal control methods while continuing to make progress in meeting the conservation goals, objectives and direction in the LRMP for prairie dogs and associated wildlife. The Forest Service intends to develop criteria to determine when, where, and how adaptive management may be used.

Preliminary Issues

The Forest Service has considerable experience conserving and managing prairie dogs and related issues on NFS lands. As a minimum, the following issues are anticipated:

• Unwanted prairie dog colonization on adjacent lands and effects on landowners;

• Conservation of black-tailed prairie dogs, a management indicator species and Region 2 sensitive species;

• The importance of prairie dogs and these public lands, especially the Conata Basin/Badlands Ferret Reintroduction Area, to the recovery of the endangered black-footed ferret;

• Effects on other wildlife species associated with prairie dogs;

• Effects on livestock grazing permittees;

• Humane treatment of prairie dogs and other associated wildlife;

• Costs and effectiveness of management strategies.

Alternatives

Possible alternatives for the conservation and management of prairie dogs while reducing their movement from NFS lands and unwanted colonization of adjacent lands may include but are not limited to the following:

• Continue implementation of current LRMP direction for prairie dogs on a case-by-case basis. Only non-lethal strategies would be used in response to unwanted prairie dog colonization on adjacent agricultural lands (no action alternative);

• Continue implementation of current LRMP direction for prairie dogs and develop a LRMP amendment and implementation plan that are in full accordance with state prairie dog management plans or recommendations. This may require an amendment to the LRMP;

• Use an adaptive management strategy to guide implementation of prairie dog conservation and management direction in the current LRMP and additional new direction for reducing unwanted prairie dog colonization on adjacent agricultural lands. This will include appropriate management recommendations from the States of South Dakota and Nebraska, and this may require an amendment to the LRMP.

Responsible Official

Donald J. Bright, Forest Supervisor, USDA Forest Service, 125 North Main Street, Chadron, Nebraska 69337.

Nature of Decision To Be Made

The Draft Environmental Impact Statement (DEIS) is not a decision document. The purpose of the DEIS is to disclose the direct, indirect, and cumulative effects of a proposed action and other alternative actions that are analyzed. After allowing the public an opportunity to comment on the specific activities described in the alternatives, the Forest Service reviews the proposed action, other alternatives, and the environmental consequences in order to make the following decisions:

1. Determine whether an implementation plan is needed to guide management aimed at reducing conflicts resulting from prairie dog movement from NFS lands onto adjacent private lands;

2. If an implementation plan is needed, determine when, where, and how management tools will be applied and monitored;

3. Determine whether an amendment to the LRMP is needed to adjust the guidance for prairie dog management.

Scoping Process

The Forest Service will be consulting with federal, state, local agencies, tribes, and other individuals or organizations that may be interested in or affected by the proposal. Other federal and state agencies will have cooperating agency status.

Comment Requested

This notice of intent initiates the scoping process which guides the development of the environmental impact statement. Comments should focus on the nature of the action proposed and should be relevant to the decision under consideration. Comments received from the public will be evaluated for significant issues and used to assist in the development of additional alternatives.

Early Notice of Importance of Public Participation in Subsequent Environmental Review

A DEIS will be prepared for comment. The comment period on the draft environmental impact statement will be at least 45 days from the date the Environmental Protection Agency publishes the notice of availability in the Federal Register. The length of the comment period will be determined by the “significance” of a potential LRMP amendment. The purpose and need for the proposed action is to reduce prairie dog movement from NFS lands and unwanted colonization of adjacent lands. We believe that this issue can be addressed without deviating from the present goals and objectives in the LRMP.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the DEIS stage but that are not raised until after completion of the final environmental impact statement (FEIS) may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the comment period so that substantive comments and objections are made available to the Forest Service at a time when it can meaningfully consider them and respond to them in the FEIS.

To assist the Forest Service in identifying and considering issues and concerns on the proposed action, comments on the DEIS should be as specific as possible. It is also helpful if comments refer to specific pages or chapters of the draft statement. Comments may also address the adequacy of the DEIS or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: October 22, 2004.
Donald J. Bright,
Forest Supervisor, Nebraska National Forest.

[FR Doc. 04-24295 Filed 10-29-04; 8:45 am]

BILLING CODE 3410-11-M